DEPARTMENT OF JUSTICE

Notice of Lodging of Proposed Settlement Agreement Under the Comprehensive Environmental Response, Compensation, and Liability Act

On May 11, 2017, a proposed Settlement Agreement was lodged with the Circuit Court of Cook County, Illinois, in the case entitled In the Matter of the Rehabilitation of Centaur Insurance Company, No. 87 CH 8615.

The Centaur Insurance Company (“Centaur”) is in rehabilitation under the jurisdiction of the Circuit Court of Cook County, Illinois County Department, Chancery Division. In that proceeding, the United States has asserted claims totaling $10 million on behalf of the Environmental Protection Agency under an insurance policy issued by Centaur to LCP Chemicals, Inc. (“LCP”) in 1982 (the “Policy”). The Policy is an Excess Umbrella Liability policy with a liability limit of $10 million in excess of $11 of underlying liability. The claims under the Policy are based on LCP's liability to EPA under the Comprehensive Environmental Response, Compensation, and Liability Act (“CERCLA”), 42 U.S.C. 9601, et seq., at three Superfund sites: The LCP Chemicals Site in Brunswick, Georgia (“Brunswick Site”), the Hanlin-Allied-Olin Superfund Site in Moundsville, West Virginia (“Moundsville Site”), and the LCP Chemicals, Inc. Superfund Site in Linden, New Jersey (“Linden Site”). The Office of the Deputy Receiver, Illinois Department of Insurance (“Rehabilitator), has been appointed as the rehabilitator of Centaur under the Illinois statutes governing insurance receiverships.

The Settlement Agreement will require the Rehabilitator to pay EPA $8,750,000, to be allocated as follows: $2,916,667 for the Brunswick Site, $2,916,667 for the Moundsville Site, and $2,916,666 for the Linden Site. In exchange for this payment, the United States, on behalf of EPA, promises not to file a civil action against the Rehabilitator or Centaur for all liabilities under the Policy arising under CERCLA for the Brunswick Site, the Moundsville Site, the Linden Site, or any other site. The Settlement Agreement preserves the United States' right to file (a) any claim based on any other insurance policy issued by Centaur, (b) any claim by EPA under the Policy based on statutes other than CERCLA, and (c) any claims of federal agencies other than EPA under the Policy.

The publication of this notice opens a period for public comment on the Settlement Agreement. Comments should be addressed to the Assistant Attorney General, Environment and Natural Resources Division, and should refer to In the Matter of the Rehabilitation of Centaur Insurance Company, No. 87 CH 8615 (Ill. Circuit Ct. Cook County), D.J. Ref. No. 90-11-3-10462. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, D.C. 20044-7611.

During the public comment period, the Settlement Agreement may be examined and downloaded at this Justice Department Web site: https://www.justice.gov/enrd/consent-decrees. We will provide a paper copy of the Settlement Agreement upon written request and payment of reproduction costs. Please mail your request and payment to: Consent Decree Library, U.S. DOJ-ENRD, P.O. Box 7611, Washington, DC 20044-7611.

Please enclose a check or money order for $1.50 (25 cents per page reproduction cost) payable to the United States Treasury.

Robert E. Maher, Jr.,
Assistant Section Chief, Environmental Enforcement Section, Environment and Natural Resources Division.

[FR Doc. 2017-09984 Filed 5-16-17; 8:45 am]

BILLING CODE 4410-15-P